DEPARTMENT OF ENERGY

Federal Energy Regulatory Commission

Notice of Application for Non-Project Use of Project Lands and Waters and Soliciting Comments, Motions To Intervene, and Protests

August 23, 2006.

Take notice that the following application has been filed with the Commission and is available for public inspection:

a. Application Type: Non-Project Use Of Project Lands And Waters.

b. Project No.: 2413-081.

c. Date Filed: July 31, 2006.

d. Applicant: Georgia Power Company.

e. Name of Project: Wallace Dam Hydroelectric Project (Lake Oconee).

f. Location: The proposed action will take place at the Wallace Dam Project on Lake Oconee at the former “Brantley's Marina”, now known as “Southbay at Lake Oconee”, which is located in Putnam County, Georgia near the intersection of Lick Creek and Oconee River sections of the lake. The address is 144 Marina Road, Eatonton, GA 31024.

g. Filed Pursuant to: Federal Power Act, 16 U.S.C. 791(a), 825(r) and §§ 799 and 801.

h. Applicant Contact: Mr. Lee B. Glenn, Lake Resources Manager; Georgia Power Company (Southern Company); 241 Ralph McGill Blvd., NE., Atlanta, GA 30308; (706) 485-8704.

i. FERC Contact: Any questions on this notice should be addressed to Brian Romanek at (202) 502-6175, or by e-mail: Brian Romanek@ferc.gov.

j. Deadline for filing comments and or motions: September 18, 2006.

All documents (original and eight copies) should be filed with: Ms. Magalie R. Salas, Secretary, Federal Energy Regulatory Commission, 888 First Street, NE., Washington, DC 20426. Please include the project number (P-2413-081) on any comments or motions filed. Comments, protests, and interventions may be filed electronically via the Internet in lieu of paper. See, 18 CFR 385.2001(a)(1)(iii) and the instructions on the Commission's Web site under the “e-Filing” link. The Commission strongly encourages e-filings.

k. Description of Request: The licensee has requested Commission approval to issue a commercial lease to Place Properties (Place) to continue operation of a public marina and to install additional boat docks to accommodate the residents of the Southbay at Lake Oconee community. The amount of project land to be leased is 1.92 acres and the total number of boat slips would be 94, which is an increase of 38 slips at the existing marina. Place proposes to upgrade certain existing marina facilities, such as the fueling dock and equipment, and the ingress and egress roads to the ramp. No dredging is proposed.

l. Location of the Application: This filing is available for review at the Commission or may be viewed on the Commission's Web site at http://www.ferc.gov, using the “eLibrary” link. Enter the docket number excluding the last three digits in the docket number field to access the document. For assistance, contact FERC Online Support at FERCOnlineSupport@ferc.gov or toll-free at (866) 208-3676, or for TTY, contact (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, or “MOTION TO INTERVENE”, as applicable, and the Project Number of the particular application to which the filing refers. A copy of any motion to intervene must also be served upon each representative of the Applicant specified in the particular application.

p. Agency Comments: Federal, state, and local agencies are invited to file comments on the described applications. A copy of the applications may be obtained by agencies directly from the Applicant. If an agency does not file comments within the time specified for filing comments, it will be presumed to have no comments. One copy of an agency's comments must also be sent to the Applicant's representatives.

Magalie R. Salas,
Secretary.

[FR Doc. E6-14392 Filed 8-29-06; 8:45 am]

BILLING CODE 6717-01-P